DEPARTMENT OF HEALTH AND HUMAN SERVICES

Centers for Medicare & Medicaid Services

[CMS-1395-N]

Medicare Program; Request for Nominations to the Advisory Panel on Ambulatory Payment Classification Groups

AGENCY: Centers for Medicare & Medicaid Services (CMS), Department of Health and Human Services (DHHS).

ACTION: Notice.

SUMMARY: This notice solicits the nominations of three individuals for consideration as members on the Advisory Panel on Ambulatory Payment Classification (APC) Groups (the Panel). There will be three vacancies on the Panel: One vacancy as of June 1 and two additional vacancies as of September 30, 2008. The purpose of the Panel is to review the APC groups and their associated weights and to advise the Secretary of the Department of Health and Human Services (DHHS), and the Administrator of the Centers for Medicare & Medicaid Services (CMS), concerning the clinical integrity of the APC groups and their associated weights. We consider the Panel's advice as we prepare the annual updates of the Medicare hospital outpatient prospective payment system (OPPS). The Secretary rechartered the Panel in 2006 for a 2-year period effective through November 21, 2008.

Submission Date of Nominations: Nominations will be considered if postmarked by 5 p.m. E.S.T. on April 1, 2008, and sent to the designated address provided in the ADDRESSES section of this notice.

ADDRESSES: You may mail or hand deliver nominations for membership to: Center for Medicare and Medicaid Services; Attn: Shirl Ackerman-Ross, Designated Federal Official (DFO), Advisory Panel on APC Groups; Center for Medicare Management, Hospital & Ambulatory Policy Group, Division of Outpatient Care; 7500 Security Boulevard, Mail Stop C4-05-17; Baltimore, MD 21244-1850.

For Additional Information:

Contacts: Persons wishing to nominate individuals to serve on the Panel or to obtain further information may also contact Shirl Ackerman-Ross, the DFO, at CMSAPCPanel@cms.hhs.gov (NOTE: There is NO underscore in this e-mail address; there is a SPACE between CMS and APCPanel.), or call 410-786-4474. (Note: Please advise couriers of the following: When delivering hardcopies of presentations to CMS, if no one answers at the above phone number, please call (410) 786-4532 or (410) 786-9316.)

News media representatives should contact the CMS Press Office at 202-690-6145.

Web Site: For additional information on the APC Panel and updates to the Panel's activities, search our Web site at the following: http://www.cms.hhs.gov/FACA/05_AdvisoryPanelonAmbulatoryPaymentClassificationGroups.asp#TopOfPage. (Use control + click the mouse in order to access the previous URL.) (Note: There is an UNDERSCORE after FACA/05_; there is no space.)

Advisory Committees' Information Lines: You may also refer to the CMS Federal Advisory Committee Hotlines at 1-877-449-5659 (toll-free) or 410-786-9379 (local) for additional information.

SUPPLEMENTARY INFORMATION:

I. Background

The Secretary is required by section 1833(t)(9)(A) of the Social Security Act (the Act), as amended and redesignated by sections 201(h) and 202(a)(2) of the Medicare, Medicaid, and SCHIP Balanced Budget Refinement Act of 1999 (BBRA) (Pub. L. 106-113), to consult with an expert outside advisory panel regarding the clinical integrity of the APC groups and relative payment weights that are components of the Medicare hospital OPPS.

The Charter requires that the APC Panel meet up to three times annually. We consider the Panel's technical advice as we prepare the proposed and final rules to update the OPPS for the next calendar year.

The Panel may consist of a chair and up to 15 members who are full-time employees of hospitals, hospital systems, or other Medicare providers that are subject to the OPPS. (For purposes of the Panel, consultants or independent contractors are not considered to be full-time employees in these organizations.)

The Administrator selects the Panel membership based upon either self-nominations or nominations submitted by providers or interested organizations.

The current Panel members are as follows: (The asterisk [*] indicates the Panel member whose term ends on June 1, 2008, and the double asterisks [**] indicate Panel members whose terms end on September 30, 2008.)

• E.L. Hambrick, M.D., J.D., Chair, a CMS Medical Officer

• Gloryanne Bryant, B.S., RHIA, RHIT, CCS

• Patrick A. Grusenmeyer, Sc.D., FACHE

• Hazel Kimmel, R.N., CCS, CPC*

• Michael D. Mills, PhD

• Thomas M. Munger, M.D., FACC

• Agatha L. Nolen, D.Ph., M.S.

• Beverly Khnie Philip, M.D.

• Louis Potters, M.D., FACR**

• Russ Ranallo, M.S., B.S.

• James V. Rawson, M.D.

• Michael A. Ross, M.D., FACEP

• Judie S. Snipes, R.N., M.B.A., FACHE**

• Patricia Spencer-Cisek, M.S., APRN-BC, AOCN®

• Kim Allen Williams, M.D., FACC, FABC

• Robert M. Zwolak, M.D., PhD, FACS

Panel members serve without compensation, according to an advance written agreement; however, for the meetings, CMS reimburses travel, meals, lodging, and related expenses in accordance with standard Government travel regulations.

We have a special interest in attempting to ensure, while taking into account the nominee pool, that the Panel is diverse in all respects of the following: Geography; rural or urban practice; race, ethnicity, sex, and disability; medical or technical specialty; and type of hospital, hospital health system, or other Medicare provider.

The Secretary, or his designee, appoints new members to the Panel from among those candidates determined to have the required expertise. New appointments are made in a manner that ensures a balanced membership under the guidelines of the Federal Advisory Committee Act.

II. Criteria for Nominees

All qualified nominees must have technical expertise in one or more of the listed areas of below that will enable them to participate fully in the work of the Panel. Nominees' expertise must exist in one of the following areas:

• Hospital payment systems.

• Hospital medical-care delivery systems.

• Outpatient payment requirements.

• APC groups.

• Physicians' Current Procedural Terminology Codes.

• The use and payment of drugs and medical devices in the outpatient setting.

• Any other relevant expertise.

It is not necessary for a nominee to possess expertise in all of the areas listed, but each nominee must have a minimum of 5 years experience and currently have full-time employment in his or her area of expertise. Members of the Panel serve overlapping terms up to 4 years, based on the needs of the Panel and contingent upon the rechartering of the Panel.

Any interested person or organization may nominate one or more qualified individuals. Self-nominations will also be accepted. Each nomination must include the following:

• Letter of Nomination,

• Curriculum Vita of the nominee, and

• Written statement from the nominee that the nominee is willing to serve on the Panel under the conditions described in this notice and further specified in the Charter.

III. Copies of the Charter

To obtain a copy of the Panel's Charter, submit a written request to the DFO at the address provided or by e-mail at CMSAPCPanel@cms.hhs.gov, or call her at 410-786-4474. Copies of the Charter are also available on the Internet at the following: http://www.cms.hhs.gov/FACA/05_AdvisoryPanelonAmbulatoryPaymentClassificationGroups.asp#TopOfPage.

Authority: Section 1833(t)(9)(A) of the Act (42 U.S.C. 1395l(t)(9)(A). The Panel is governed by the provisions of Pub. L. 92-463, as amended (5 U.S.C. Appendix 2).

(Catalog of Federal Domestic Assistance Program No. 93.774, Medicare—Supplementary Medical Insurance Program.)

Dated: February 7, 2008.
Kerry Weems,
Acting Administrator, Centers for Medicare & Medicaid Services.

[FR Doc. E8-2806 Filed 2-21-08; 8:45 am]

BILLING CODE 4120-01-P